DEPARTMENT OF LABOR

Employment and Training Administration

[TA-W-62,702]

Merix Corporation Including On-Site Leased Workers From Kelly Services Wood Village, Oregon; Notice of Revised Determination on Reconsideration

By application postmarked March 18, 2008 a petitioner requested administrative reconsideration of the Department's negative determination regarding eligibility for workers and former workers of the subject firm to apply for Trade Adjustment Assistance (TAA) and Alternative Trade Adjustment Assistance (ATAA).

The initial investigation resulted in a negative determination signed on March 4, 2008, was based on the finding that even though there was a shift in production from the subject firm to China, imports of inner layer panels that are used in the production of printed circuit boards did not contribute importantly to worker separations at the subject plant. The denial notice was published in the Federal Register on March 21, 2008 (73 FR 15218).

In the request for reconsideration, the petitioner provided additional information regarding the subject firm's domestic production of inner layer panels for printed circuit boards and imports of these products into the United States.

The Department contacted the company official to verify whether the subject firm imported inner layer panels upon shifting production of these products from the subject firm to China. The investigation on reconsideration revealed that the subject firm increased imports of inner layer panels from 2006 to 2007. It was also revealed that employment and sales of inner layer panels declined at Merix Corporation, Wood Village, Oregon during the relevant period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that increases of imports of inner layer panels that are used in the production of printed circuit boards, produced by Merix Corporation, Wood Village, Oregon, contributed importantly to the total or partial separation of workers and to the decline in sales or production at that firm or subdivision. In accordance with the provisions of the Act, I make the following certification:

All workers of Merix Corporation, including on-site leased workers from Kelly Services, Wood Village, Oregon, who became totally or partially separated from employment on or after January 18, 2007, through two years from the date of this certification, are eligible to apply for adjustment assistance under Section 223 of the Trade Act of 1974, and are eligible to apply for alternative trade adjustment assistance under Section 246 of the Trade Act of 1974.

Signed at Washington, DC, this 1st day of April, 2008.
Elliott S. Kushner,
Certifying Officer, Division of Trade Adjustment Assistance.

[FR Doc. E8-7735 Filed 4-10-08; 8:45 am]

BILLING CODE 4510-FN-P